NATIONAL TRANSPORTATION SAFETY BOARD

Sunshine Act; Meeting

Time and Place: 9:30 a.m., Tuesday, May 6, 2003.

Place: NTSB Conference Center, 429 L'Enfant Plaza, SW., Washington, DC 20594.

Status: The one item is open to the public.

Matter To Be Considered:

52991: Most Wanted Safety Recommendations Program—2003 Update.

News Media Contact: Telephone: (202) 314-6100.

Individuals requesting specific accommodations should contact Ms. Carolyn Dargan at (202) 314-6305 by Friday, May 2, 2003.

FOR FURTHER INFORMATION CONTACT: Vicky D'Onofrio, (202) 314-6410.

Dated: April 25, 2003.
Vicky D'Onofrio,
Federal Register Liaison Officer.

[FR Doc. 03-10661 Filed 4-25-03; 2:27 pm]

BILLING CODE 7533-01-M